DEPARTMENT OF THE INTERIOR

Bureau of Land Management

[CO-921-04-1320-EL; COC 66514]

Notice of Coal Lease Offering by Sealed Bid; COC 66514

AGENCY: Bureau of Land Management, Interior.

ACTION: Notice of competitive coal lease sale.

SUMMARY: Bureau of Land Management, Colorado State Office, Lakewood, Colorado, hereby gives notice that certain coal resources in the lands hereinafter described in Garfield County, Colorado, will be offered for competitive lease by sealed bid in accordance with the provisions of the Mineral Leasing Act of 1920, as amended (30 U.S.C. 181 et seq.).

DATES: The lease sale will be held at 11 a.m., Tuesday, January 6, 2004. Sealed bids must be submitted no later than 10 a.m., Tuesday, January 6, 2004.

ADDRESSES: The lease sale will be held in the Conference Room, Fourth Floor, Colorado State Office, 2850 Youngfield Street, Lakewood, Colorado. Sealed bids must be submitted to the Cashier, Colorado State Office, 2850 Youngfield Street, Lakewood, Colorado 80215.

FOR FURTHER INFORMATION CONTACT: Karen Purvis at (303) 239-3795.

SUPPLEMENTARY INFORMATION: The tract will be leased to the qualified bidder submitting the highest offer that meets or exceeds the BLM's pre-sale appraisal of fair market value. The minimum bid for this tract is $100 per acre, or fraction thereof. No bid less than $100 per acre or fraction thereof will be considered. The minimum bid is not intended to represent fair market value.

Sealed bids received after the time specified above will not be considered.

In the event identical high sealed bids are received, the tying high bidders will be requested to submit follow-up bids until a high bid is received. All tie-breaking sealed bids must be submitted within 15 minutes following the Sale Official's announcement at the sale that identical high bids have been received.

The offer that is officially accepted by the BLM will be the fair market value of record for this tract.

Coal Offered: The coal resource offered is limited to coal recoverable by underground mining methods on the Spink Canyon Tract in the following lands:

T. 7 S., R. 102 W., 6th P.M.

sec. 3, lots 22, 24, & Tract. 45, lots 21, & 23;

sec. 4, lots 9, 11, 13 & Tract. 45, lots 10, 12, & 14, S½NE¼, SE¼NW¼, SW¼, and NW¼SE¼;

sec. 5, SE¼SE¼;

sec. 8, E½E½;

sec. 9, lots 2, 4, 5, 7, 10, 12, 13, 16, 17, 19, 22, & Tr. 45, lots 1, 3, 9, & 11, Tr. 37, lots 6, 8, 14, 15, 18, 20, & 21, N½NW¼, SW¼NW¼, NW¼SW¼, and E½SE¼;

sec. 10, lot 1, & Tract. 45, lot 2, SW¼NW¼, and W½SW¼.

Containing approximately 1,520.24 acres.

The total recoverable coal reserve is estimated to be 8,365,000 tons. The coal is ranked as high volatile C bituminous coal with an as-received quality of:

Btu—10,767 Btu/lb.

Moisture—8.16%

Sulfur Content—0.48%

Ash Content—13.81%

Rental and Royalty: The lease, if issued, will require payment of an annual rental of $3.00 per acre, or fraction thereof, and a royalty payable to the United States in an amount equal to 8 percent of the value of coal, as determined in accordance with 30 CFR 206, for all coal mined by underground mining methods. The value of the coal will be determined in accordance with 30 CFR 206.

Notice of Availability: Bidding instructions for the offered tract are included in the Detailed Statement of Coal Lease Sale. You may request a copy of the Detailed Statement of Coal Lease Sale, and the proposed coal lease, either in person or by mail from the BLM Colorado State Office at the address given above. The case file for the Federal coal lease tract is available for public inspection in the Public Room, BLM Colorado State Office, during normal business hours at the address given above.

Dated: November 5, 2003.
Karen Purvis,
Solid Minerals Staff, Division of Energy, Lands and Minerals.

[FR Doc. 03-30879 Filed 12-12-03; 8:45 am]

BILLING CODE 4310-JB-P